DEPARTMENT OF AGRICULTURE

Forest Service

Southwest Region; Authorization of Livestock Grazing Activities on the Sacramento Grazing Allotment, Sacramento Ranger District, Lincoln National Forest, Otero County, NM

AGENCY: Forest Service, USDA.

ACTION: Revised Notice of Intent to Prepare a Final Environmental Impact Statement for the Authorization of Livestock Grazing on the Sacramento Grazing Allotment.

SUMMARY: In a previous Federal Register announcement (July 5, 2002, Vol 67, No. 129, page 44805) the Forest service provided notice it would prepare a final environmental impact statement on a proposal to authorize livestock grazing activities on the Sacramento Grazing Allotment by October 2000. The project area encompasses approximately 115,000 acres of National Forest lands on the Sacramento Ranger District of the Lincoln National Forest. The Sacramento Grazing allotment comprises approximately 25% of the ranger district. The project has generated controversy on three main points; effects to threatened and endangered animal and plant species, concern for degraded riparian areas, and forage competition between wildlife and livestock. This notice is to advise interested parties that a final environmental impact statement (FEIS) will be available for public review in January 2004.

Responsible Official: The District Ranger will decide whether or not to authorize domestic livestock grazing on the Sacramento Allotment which will include appropriate forest plan standards and guidelines in part 3 of the existing grazing permit. If grazing is authorized, the District Ranger will decide on the permitted number of animals and season of use, range facilities to be constructed, allowable utilization standards, required monitoring, and mitigation measures (best management practices, BMPs).

FOR FURTHER INFORMATION CONTACT: Questions about the proposed project and scope of analysis should be directed to Rick Newmon or Mark Cadwallader at (505 682-2551).

Dated: November 7, 2003.
Jose M. Martinez,
Forest Supervisor, Lincoln National Forest.

[FR Doc. 03-30347 Filed 12-5-03; 8:45 am]

BILLING CODE 3410-11-M